DEPARTMENT OF TRANSPORTATION

Federal Aviation Administration (FAA)

Notice of Opportunity for Public Comment on Grant Acquired Property Release at Asheville Regional Airport, Asheville, North Carolina

AGENCY: Federal Aviation Administration (FAA), DOT.

ACTION: Notice.

SUMMARY: Under the provisions of Title 49, U.S.C. 47153(c), notice is being given that the Federal Aviation Administration (FAA) is considering a request from the City of Asheville and Buncombe County to waive the requirement that approximately 50 acres of airport property, located at the Asheville Regional Airport, be used for aeronautical purposes.

DATES: Comments must be received on or before April 17, 2014.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the FAA must be mailed or delivered to Mr. Lew Bleiweis, Airport Director, Asheville Regional Airport, at the following address: Asheville Regional Airport, 61 Terminal Drive, Suite 1, Fletcher, NC 28732.

FOR FURTHER INFORMATION CONTACT: Rusty Nealis, Program Manager, Atlanta Airports District Office, 1701 Columbia Ave., Campus Building, Suite 2-260, Atlanta, GA 30337-2747, (404) 305-7142. The application may be reviewed in person at this same location.

SUPPLEMENTARY INFORMATION: The FAA is reviewing a request by the City of Asheville and Buncombe County to release approximately 50 acres of airport property at the Asheville Regional Airport. This property was originally acquired with FAA assistance in 1958. This property is currently being used by the State of North Carolina for the Western North Carolina Agricultural Center and is compatible with airport operations.

Any person may inspect the request in person at the FAA office listed above under FOR FURTHER INFORMATION CONTACT.

In addition, any person may, upon request, inspect the request, notice and other documents germane to the request in person at the Asheville Regional Airport.

Issued in Atlanta, Georgia on March 10, 2014.
Larry F. Clark,
Manager, Atlanta Airports District Office, Southern Region.

[FR Doc. 2014-05898 Filed 3-17-14; 8:45 am]

BILLING CODE 4910-13-P